DEPARTMENT OF HOMELAND SECURITY

Federal Emergency Management Agency

[Docket ID: FEMA-2014-0031; OMB No. 1660-0069]

Agency Information Collection Activities: Submission for OMB Review; Comment Request; National Fire Incident Reporting System (NFIRS) v5.0

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before March 27, 2015.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 500 C Street SW., Room 7NE, Washington, DC 20472, facsimile number (202) 212-4701, or email address FEMA-Information-Collections-Management@fema.dhs.gov.

SUPPLEMENTARY INFORMATION: On October 10, 2014, FEMA published in the Federal Register at 79 FR 64610 a 60 day Federal Register notice requesting comment on FEMA's proposed revision to the National Fire Incident Reporting System (NFIRS) v5.0 informaton collection. FEMA subsquently received 8 comments providing positive and constructive feedback regarding the information collected by NFIRS. The cost and hour burden of the NFIRS to users was not addressed directly in any of the comments received. All comments received regarding the content of information collected, the suggested combination of the NFIRS with other data collection systems, the suggested enhancements to the user interface experience of some specific systems (which would impact average time burden in reporting), the suggested “mandatory reporting” by all fire agencies (including Wildland), and the capability for fire departments to review other fire department and regional fire incident data were provided to the program office for their consideration when updating or modifiying the NFIRS.

Collection of Information

Title: National Fire Incident Reporting System (NFIRS) v5.0.

Type of information collection: Revision of a currently approved information collection.

Form Titles and Numbers: FEMA Form The National Fire Incident Reporting System (NFIRS) v5.0.

Abstract: NFIRS was established in 1975 by the USFA as a cooperative effort of local, State, and Federal authorities to improve uniformity in fire incident reporting and to ensure that data are useable for fire protection planning and management. The program provides a well-established mechanism, using standardized reporting methods, to collect and analyze fire incident data at the Federal, State, and local levels with a myriad of life and property saving uses and benefits.

Affected Public: State, Local or Tribal, and Federal Governments.

Estimated Number of Respondents: 23,856. The number of respondents has increased by 856 since FEMA published the 60 day Federal Register notice on October 30, 2014 because of a clerical error.

Estimated Total Annual Burden Hours: 13,500,230. The annual burden hours decreased by 204,670 hours from the previous inventory due to discontinuation of use of NFIRS paper forms and a small decrease in the number of students receiving the NFIRS Program Management Training and Orientation.

Estimated Cost: The estimated annual operations and maintenance costs to respondents or record keepers resulting from the collection of information is $13,915,000. The estimated annual cost to the Federal Government is $2,416,255.

Dated: February 5, 2015.
Charlene D. Myrthil,
Director, Records Management Division, Mission Support, Federal Emergency Management Agency, Department of Homeland Security.

[FR Doc. 2015-03838 Filed 2-24-15; 8:45 am]

BILLING CODE 9111-76-P